ENVIRONMENTAL PROTECTION AGENCY

40 CFR Parts 9 and 721

[EPA-HQ-OPPT-2024-0077; FRL-12348-03-OCSPP]

RIN 2070-AB27

Significant New Use Rules on Certain Chemical Substances (24-2.5e); Correction

AGENCY: Environmental Protection Agency (EPA).

ACTION: Final rule; correction.

SUMMARY: EPA is making a correction to a final rule that appeared in the Federal Register of June 23, 2025 (FR Doc. 2025-11489). The final rule established significant new use rules (SNURs) under the Toxic Substances Control Act (TSCA) for chemical substances that were the subject of premanufacture notices (PMNs) and Orders issued by EPA pursuant to TSCA.

DATES: The final rule correction is effective on August 22, 2025.

ADDRESSES: The docket for this action, identified under docket identification (ID) number EPA-HQ-OPPT-2024-0077, is available online at https://www.regulations.gov or in person at the Office of Pollution Prevention and Toxics Docket (OPPT Docket) in the Environmental Protection Agency Docket Center (EPA/DC). Please review the visitor instructions and additional information about the docket available at https://www.epa.gov/dockets.

FOR FURTHER INFORMATION CONTACT: William Wysong, New Chemicals Division (7405M), Office of Pollution Prevention and Toxics, Environmental Protection Agency, 1200 Pennsylvania Ave. NW, Washington, DC 20460-0001; telephone number: (202) 564-4163; email address: wysong.william@epa.gov.

SUPPLEMENTARY INFORMATION: This action corrects a regulatory amendment established in the final rule that appears in the Federal Register of June 23, 2025 (90 FR 26437 (FRL-12348-02-OCSPP)). The amendment to the table in 40 CFR part 9 is removed because EPA subsequently issued a separate amendment to 40 CFR part 9 that makes this change obsolete and unnecessary. See FR Doc. 2025-11573 (90 FR 27785, June 30, 2025 (FRL-12001-01-OCSPP)).

The Agency is not providing a public comment opportunity prior to promulgation of this technical correction, because such public comment is unnecessary under 5 U.S.C. 553(b)(B) of the Administrative Procedure Act (APA). The correction established in this action is very minor and non-substantive and would not alter the regulations established in the final rule. Therefore, pursuant to the APA section 553(b)(B), EPA finds good cause to promulgate this technical correction without notice and comment.

Corrections

In FR Doc. 2025-11489 appearing at 90 FR 26437 in the Federal Register of Monday, June 23, 2025 (FRL-12348-02-OCSPP), the following correction is made to the regulatory text:

PART 9—[Corrected]

1. On page 26440, in the third column, amendatory instructions 1 and 2 for 40 CFR part 9 and their accompanying regulatory text are removed.

Dated: July 21, 2025.
Mary Elissa Reaves,
Director, Office of Pollution Prevention and Toxics.

[FR Doc. 2025-13834 Filed 7-22-25; 8:45 am]

BILLING CODE 6560-50-P